DEPARTMENT OF THE INTERIOR

National Park Service

[NPS-WASO-NAGPRA-NPS0031755; PPWOCRADN0-PCU00RP14.R50000]

Notice of Inventory Completion: California Department of Transportation, Sacramento, CA

AGENCY: National Park Service, Interior.

ACTION: Notice.

SUMMARY: The California Department of Transportation has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the California Department of Transportation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the California Department of Transportation at the address in this notice by May 24, 2021.

ADDRESSES: Sarah M. Allred, Native American Cultural Studies Branch Chief, Cultural Studies Office, California Department of Transportation, 1120 N Street, MS-27, Sacramento, CA 95814, telephone (916)-956-5506, email sarah.allred@dot.ca.gov.

SUPPLEMENTARY INFORMATION: Notice is here given in accordance with the Native American Graves Protection and Repatriation Act (NAGPRA), 25 U.S.C. 3003, of the completion of an inventory of human remains and associated funerary objects under the control of the California Department of Transportation, Sacramento, CA, and in the physical custody of California State University, Sacramento, CA. The human remains and associated funerary objects were removed from site CA-SAC-166 in Sacramento County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made jointly by California Department of Transportation (Caltrans) and California State University, Sacramento professional staff in consultation with representatives of the Shingle Springs Band of Miwok Indians, Shingle Springs Rancheria (Verona Tract), California; and the United Auburn Indian Community of the Auburn Rancheria of California. The Buena Vista Rancheria of Me-Wuk Indians of California; Ione Band of Miwok Indians of California; Jackson Band of Miwuk Indians [previously listed as Jackson Rancheria of Me-Wuk Indians of California]; Wilton Rancheria, California; and four non-federally recognized Indian groups—the Miwok Tribe of the El Dorado Rancheria; Nashville-Eldorado Rancheria; Nevada City Rancheria; and the Tsi-akim Maidu—were invited to consult but did not participate. Hereafter, all the above entities are referred to as “The Consulted and Invited Tribes and Groups.”

History and Description of the Remains

Between 1959 and 1997, human remains representing, at minimum, 10 individuals were removed from site CA-SAC-166 in Sacramento County, CA. The 1959-60 excavations were led by the State Indian Museum for the California Department of Parks and Recreation (DPR). The 1961-62 excavations were led by the American River Junior College for the Department of Public Works, Division of Highways (now Caltrans). The 1995 and 1997 excavations were led by PAR Environmental within Caltrans' right of way. Collections from CA-SAC-166 were placed in the custody of California State University, Sacramento in 1993, 1997, and the late 1990s. One child, six adults, and three individuals of undetermined age were identified. No known individuals were identified. The 7,069 associated funerary objects include: seven stone abraders, eight pieces of baked clay, 191 shell beads, 16 bifaces, one steel bolt, two brick fragments, one tin can, two pieces of chalk, one metal cap, 183 fragments of wood charcoal, 40 cores, 17 core tools, 479 pieces of debitage, two discoidals, 10 edge modified flakes, five quartz crystals, one piece of mica, two expedient tools, one metal fastener, one antler fish spear, three flotation samples, six ground stone artifacts, 16 hammerstones, 36 handstones, 1,435 invertebrate remains, 46 metal fragments, seven metates, two metal nails, four net weights, three nut fragments, three haliotis shell ornaments, two pieces of plastic, one fiber, six stone pendants, five pestles, 34 pieces of ochre, two polishing stones, 12 projectile points, 164 non-cultural rocks, one piece of modified quartzite, two modified stones, one piece CCR, six scrapers, 408 glass sherds, one ceramic sherd, three plastic sherds, two pieces of shoe leather, four soil samples, two leather straps, two pieces of canvas, 106 thermally altered rocks, two unidentified stones, one metavolcanic flaked stone, three pieces of paper, one piece of redwood, one unidentified piece of plastic, 3,665 vertebrate remains, four stone vessels, one steel washer, 56 worked bones, three worked shells, seven worked stones, and 30 pieces of worked historic era redwood.

The distribution of human remains and three burials in disturbed contexts support the preponderance of evidence that the objects were displaced from their associated burials. The discovery of a formal burial and isolated human remains throughout contiguous archeological units and a possible cremation show that the site was used, in part, for interment.

Chronological data from temporally diagnostic objects indicate CA-SAC-166 was occupied from the Middle Period up until the protohistoric or historic periods. CA-SAC-166 lies within the historic ethnolinguistic boundaries of the Nisenan in an area known to have been a transitional territory used seasonally by both Valley and Foothill Nisenan groups. CA-SAC-166 is situated near two named Foothill Nisenan villages, Yodok and Yolimhu. During the historic period, Miwok groups were known to enter the area due to displacement and depopulation caused by the Mission system, disease, John Sutter's fort, and Euro-American intrusions.

Determinations Made by the California Department of Transportation

Officials of the California Department of Transportation have determined that:

• Pursuant to 25 U.S.C. 3001(9), the human remains described in this notice represent the physical remains of 10 individuals of Native American ancestry.

• Pursuant to 25 U.S.C. 3001(3)(A), the 7,069 objects described in this notice are reasonably believed to have been placed with or near individual human remains at the time of death or later as part of the death rite or ceremony.

• Pursuant to 25 U.S.C. 3001(2), there is a relationship of shared group identity that can be reasonably traced between the Native American human remains and associated funerary objects and the Buena Vista Rancheria of Me-Wuk Indians of California; Ione Band of Miwok Indians of California; Jackson Band of Miwuk Indians [previously listed as Jackson Rancheria of Me-Wuk Indians of California]; Shingle Springs Band of Miwok Indians, Shingle Springs Rancheria (Verona Tract), California; United Auburn Indian Community of the Auburn Rancheria of California; and the Wilton Rancheria, California (hereafter referred to as “The Tribes”).

Additional Requestors and Disposition

Lineal descendants or representatives of any Indian Tribe or Native Hawaiian organization not identified in this notice that wish to request transfer of control of these human remains and associated funerary objects should submit a written request with information in support of the request to Sarah M. Allred, Native American Cultural Studies Branch Chief, Cultural Studies Office, California Department of Transportation, 1120 N Street, MS-27, Sacramento, CA 95814, telephone (916)-956-5506, email sarah.allred@dot.ca.gov, by May 24, 2021. After that date, if no additional requestors have come forward, transfer of control of the human remains and associated funerary objects to The Tribes may proceed. If joined to a request from one or more of The Tribes, the following non-federally recognized Indian groups may receive transfer of control of the human remains and associated funerary objects: the Nashville-Eldorado Miwok Tribe, Nevada City Rancheria, and Tsi-akim Maidu.

The California Department of Transportation is responsible for notifying The Consulted and Invited Tribes and Groups that this notice has been published.

Dated: April 15, 2021.
Melanie O'Brien,
Manager, National NAGPRA Program.

[FR Doc. 2021-08399 Filed 4-21-21; 8:45 am]

BILLING CODE 4312-52-P